DEPARTMENT OF COMMERCE

National Oceanic and Atmospheric Administration

RIN 0648-XG091

Magnuson-Stevens Act Provisions; General Provisions for Domestic Fisheries; Application for Exempted Fishing Permit

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application submitted by the Northeast Fisheries Science Center contains all of the required information and warrants further consideration. This Exempted Fishing Permit would exempt participating vessels from the following types of fishery regulations: Minimum fish size restrictions; fish possession limits; and, in limited situations for research purposes only, retaining and landing prohibited fish species. Regulations under the Magnuson-Stevens Fishery Conservation and Management Act require publication of this notice to provide interested parties the opportunity to comment on Exempted Fishing Permit applications.

DATES: Comments must be received on or before April 2, 2018.

ADDRESSES: You may submit written comments by either of the following methods:

• Email: nmfs.gar.efp@noaa.gov. Include in the subject line “Comments on NEFSC Study Fleet EFP.”

• Mail: Michael Pentony, Regional Administrator, NMFS, Greater Atlantic Regional Fisheries Office, 55 Great Republic Drive, Gloucester, MA 01930. Mark the outside of the envelope “Comments on NEFSC Study Fleet EFP.”

FOR FURTHER INFORMATION CONTACT: Spencer Talmage, Fishery Management Specialist, 978-281-9232, Spencer.Talmage@noaa.gov.

SUPPLEMENTARY INFORMATION: The Northeast Fisheries Science Center submitted a complete application for an Exempted Fishing Permit (EFP) on February 9, 2018, for the 2018 Study Fleet Program. The EFP would exempt 31 commercial fishing vessels from the minimum size and possession limits for species of interest, as well as allow temporary retention of species that will be discarded.

The Center established the Study Fleet Program in 2002 to more fully characterize commercial fishing operations and provide sampling opportunities to augment NOAA's National Marine Fisheries Service's data collection programs. Partnership with the commercial fishing industry allows the Center to provide samples for stock assessment and fish biology research when traditional sampling sources might otherwise be unavailable. Table 1 includes all of the regulations specified at 50 CFR part 648 that participating vessels would be exempt from for at-sea sampling, or when retaining and landing fish for research purposes. The exemptions listed in Table 1 are necessary for contracted vessels to acquire the biological samples needed to meet Center research objectives.

Table 1—Specific Regulations Covered by the Proposed Exempted Fishing Permit
| NEFSC Study Fleet Program EFP
Number of Vessels | 31.
Exempted regulations in 50 CFR part 648 | Size limits:
| § 648.83 NE multispecies minimum sizes.
| § 648.93 Monkfish minimum fish size.
| § 648.147 Black sea bass minimum fish size.
| Possession restrictions:
| § 648.86(a) Haddock.
| § 648.86(b) Atlantic cod.
| § 648.86(c) Atlantic halibut.
| § 648.86(d) Small-mesh multispecies.
| § 648.86(l) Zero retention of Atlantic wolffish and windowpane flounder.
| § 648.86(o) Possession limits implemented by Regional Administrator.
| § 648.94 Monkfish possession limit.
| § 648.322 Skate possession and landing restrictions.
| § 648.145 Black sea bass possession limits.
| § 648.92(b)(2)(i) Prohibition from landing NE multispecies on monkfish-only day-at-sea.
| § 648.293 Golden tilefish.

Any fish retained under the EFP would be delivered to Center staff upon landing. Additionally, prior to landing, the Center would issue a formal Biological Sampling Request to the vessel to retain fish for the Study Fleet Program. This would ensure that the landed fish do not exceed any collection needs of the Study Fleet Program, as detailed below in Table 2.

All catch would be attributed to the appropriate commercial fishing quota. For a vessel fishing on a groundfish sector trip, all catch of groundfish stocks allocated to sectors would be deducted from its sector's Annual Catch Entitlement (ACE). Once the ACE for a stock has been reached in a sector, vessels would no longer be allowed to fish in that stock area unless the sector acquires additional ACE for the stock in question. For common pool vessels, all groundfish catch would be counted toward the appropriate trimester total allowable catch (TAC). Common pool vessels would be exempt from possession and trip limits, but would still be subject to trimester TAC closures.

Vessels fishing under this EFP would be required to report via their Vessel Monitoring System (VMS) or the Interactive Voice Response (IVR) system to identify trips that would be landing species below minimum size limits and/or in excess of possession limits. Vessels not landing fish for the Center but temporarily possessing fish for at-sea sampling would not be required to call into the IVR system or report via VMS.

Table 2—Study Fleet Program's Biological Sample Collection Needs
Species | Stock area * | Gear types # | Collection frequency | Individual fish per collection period | Maximum weight allowed per trip (lb) | Maximum allowance (lb)
Windowpane flounder | GOM, GB | OTF, DRS | Monthly | 40 ea./mo | 30 | 360
Monkfish | GOM, GB, SNE | OTF, GNS, DRS | Monthly | 15 ea./mo. SNE 15 ea./mo. GOM | 750 | 9,000
Haddock | GOM, GB, SNE | OTF, LLB, GNS, DRS | Monthly/Seasonal | 40 ea./mo | 320 | 1600
Atlantic cod | GOM, GB, SNE | OTF, LLB, GNS, DRS | Monthly | 120 ea./mo | 270 | 7,200
Barndoor skate | GOM, GB, SNE | OTF, GNS, DRS | Quarterly | 20 ea./qtr | 150 | 600
Thorny skate | GOM, GB, SNE | OTF, GNS, DRS | Quarterly | 20 ea./qtr | 150 | 600
Black sea bass | GB, SNE | PTF, OTF | Monthly | 30 ea./mo | 180 | 2,160
Atlantic wolffish | GOM, GB | OTF,GNS, LLB | Monthly | 40 ea./mo | 160 | 3,500
Cusk | GOM, GB | OTF,GNS, LLB | Monthly | 40 ea./mo | 140 | 3,600
Atlantic halibut | GOM, GB | OTF, GNS, LLB | Monthly | 20 ea./mo | 500 | 6,000
Butterfish | SNE, MA | OTM | Monthly | 150 ea./mo | 75 | 900
Blueline tilefish | SNE, MA | LLB | Monthly | 20 ea./mo | 100 | 1,200
Golden tilefish | SNE, MA | LLB | Monthly | 20 ea./mo | 150 | 1,800
Atlantic herring | Any Area | OTM, OTF, PTM, PUR | Monthly | 100 ea./mo | 100 | 1,200
River herring/shad | Any Area | OTM, OTF, PTM, PUR | Monthly | 100 ea./mo of ea. species | 100 of ea. species | 1,200 of ea.species
Round herring | Any Area | OTM, OTF, PTM, PUR | Monthly | 100 ea./mo | 100 | 1,200
Silver hake | Any Area | OTM, OTF, PTM, PUR | Monthly | 100 ea./mo | 260 | 3,120
Atlantic mackerel | Any Area | OTM, OTF, PTM, HND, PUR | Monthly | 100 ea./mo | 260 | 3,120
Shortfin squid | Any Area | OTM, OTF | Monthly | 100 ea./mo | 75 | 900
Sand lance | Any Area | OTM, OTF, PTM, PUR | Monthly | 100 ea./mo | 25 | 300
Longfin squid | Any Area | OTM, OTF | Monthly | 100 ea./mo | 75 | 900
* Stock area abbreviations: Gulf of Maine (GOM), Georges Bank (GB), Southern New England (SNE).
# Gear abbreviations: Otter trawl (OTF), bottom longline (LLB), sink gillnet (GNS), sea scallop dredge (DRS), fish pot (PTF), hand lines, auto jig (HND), purse seine (PUR), otter trawl midwater (OTM), pair trawl midwater (PTM).

If approved, the NEFSC may request minor modifications and extensions to the EFP throughout the year. EFP modifications and extensions may be granted without further notice if they are deemed essential to facilitate completion of the proposed research and have minimal impact that does not change the scope of the initially approved EFP request. Any fishing activity conducted outside the scope of the exempted fishing activity would be prohibited.

Authority: 16 U.S.C. 1801 et seq.

Dated: March 12, 2018.
Emily H. Menashes,
Acting Director, Office of Sustainable Fisheries, National Marine Fisheries Service.

[FR Doc. 2018-05334 Filed 3-15-18; 8:45 am]

BILLING CODE 3510-22-P